NATIONAL SCIENCE FOUNDATION

Agency Information Collection Activities: Comment Request; NSF's Computer and Information Science and Engineering (CISE) Broadening Participation in Computing (BPC) Pilot Survey

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: NSF's Computer and Information Science and Engineering (CISE) Broadening Participation in Computing (BPC) Pilot Survey.

OMB Control No.: 3145-New.

Abstract: Guided by its Strategic Plan, the National Science Foundation (NSF) has had a longstanding commitment to broadening participation of underrepresented groups and diverse institutions in science, technology, engineering, and math (STEM). In recent years, the Computer and Information Science and Engineering (CISE) Directorate has made a concerted effort to address underrepresentation of various groups in the field of computer science, including women, persons with disabilities, Blacks and African Americans, Hispanics and Latinos, American Indians, Alaska Natives, Native Hawaiians, and Other Pacific Islanders. Underrepresentation in the computer science field has resulted in unwelcoming work and academic environments, the belief among those in positions of influence (e.g., counselors, teachers, faculty, and recruiters) that some people are not well suited to computing or are less likely to excel, and a lack of policies promoting equity within educational institutions and private companies.

This underrepresentation has important implications for society. Computing is one of the fastest growing sectors of the economy, and the lack of diversity deprives the field of a wealth of experience, knowledge, expertise, and perspective. The CISE Strategic Plan for Broadening Participation (November 2012) recognizes that the “. . . causes of longstanding underrepresentation are complex and deeply rooted in the cultures of different demographic groups as well as in our society, in our educational institutions, and in our popular media. They will not be easily or quickly changed.”

The NSF CISE Directorate requests the Office of Management and Budget (OMB) approval of this clearance to initiate new data collections to be conducted as part of an external evaluation of the CISE BPC pilot. These collections, to be conducted by the evaluation contractor, include:

Survey of BPC pilot projects. A one-time web-based survey of all BPC pilot projects funded between FY19 to FY21. The purpose is to corroborate and confirm key findings from reviews of existing project documentation (e.g., types of strategies that BPC pilots are using to address systemic barriers, as described in Research Performance Progress Reports), as well as to collect data about topics not covered by existing documentation. The survey data will enable NSF to assess the feasibility and value of specific data elements that might be included in recommendations for how to document the characteristics and outcomes of BPC pilots in future years.

Interviews with BPC pilot projects. Interviews with representatives from a purposeful sample of 30 BPC pilot projects funded between FY19 to FY21. The interviews, to be conducted using a virtual meeting platform at a time convenient for the participants, will provide in-depth information about specific topics of interest to NSF (e.g., how BPC pilot project plans and Departmental plans are being implemented, effective strategies for broadening participation across a range of preK-20 settings). An added purpose is to corroborate findings obtained through prior reviews of existing documents and dive more deeply on selected areas that are of interest to CISE staff and other stakeholders.

This data collection is necessary to provide NSF with timely and actionable information about the characteristics, broad strategies and activities, short-term outputs, and outcomes associated with the approximately 800 awards funded through the CISE broadening participation in computing (BPC) pilot. The information collected will provide a better understanding of: (1) the outputs and outcomes of the BPC pilot projects and whether they are correlated with national trends related to computing, (2) the feasibility of measuring the types of impacts associated with BPC pilots; and (3) promising strategies.

Use of the Information: Aggregate results from the survey and interviews will be summarized in reports developed by the evaluation contractor that will be provided to NSF. While the individual survey and interview responses will be identifiable to the contractor, the reports provided to NSF will only include overall results. Westat will not report any No individual survey or individual responses will be reported to NSF, and no information about individuals participating in the surveys and interviews will be released to anyone outside the contractor's organization. The data collected and reported on will be used for planning, management, and evaluation purposes. These data are needed for effective administration, program monitoring, evaluation, and for strategic reviews and measuring attainment of NSF's program and strategic goals, as identified by the President's Accountable Government Initiative, the Government Performance and Results Act Modernization Act of 2010, Evidence-Based Policymaking Act of 2018, and NSF's Strategic Plan.

Expected Respondents: The respondents are either Principal Investigators (PIs) and/or other key personnel on grants funded through the NSF CISE pilot. The survey will include all PIs with awards that required a BPC plan funded from FY 19 to FY 21 (approximately 800 total). The interviews will include PIs and/or other key personnel from a sample of 30 projects.

Estimate of Burden:

Estimates of Annualized Cost to Respondents for the Hour Burdens

The overall annualized cost to the respondents is estimated to be $21,070. The following table shows the estimated burden and costs to respondents, who are generally computer science teachers at the postsecondary level. This estimated hourly rate is based on a report from the Bureau of Labor Statistics' Occupational Employment and Wages, May 2021).¹ According to this report, the average hourly rate is $43.08.

¹ https://www.bls.gov/oes/current/oes251021.htm.

Collection title | Total number of respondents | Burden hours per respondent | Total hour burden | Average hourly rate | Estimated annual cost
Survey of BPC pilot projects | 800 | .5 | 400 | $43 | $17,200
Interviews with BPC pilot projects | 90 | 1 | 90 | 43 | 3,870
Total | 890 |  | 490 |  | 21,070

Estimated Number of Responses per Report: Data collection for the collections involves all awardees in the programs involved for the survey and a sample of 90 representatives from 30 projects for the interviews.

Dated: January 3, 2023.
Suzanne H. Plimpton,
Reports Clearance Officer, National Science Foundation.

[FR Doc. 2023-00131 Filed 1-6-23; 8:45 am]

BILLING CODE 7555-01-P